ENVIRONMENTAL PROTECTION AGENCY

[EPA-HQ-OECA-2014-0091; FRL-9986-10-OEI]

Information Collection Request Submitted to OMB for Review and Approval; Comment Request; NESHAP for Engine Test Cells/Stands (Renewal)

AGENCY: Environmental Protection Agency (EPA).

ACTION: Notice.

SUMMARY: The Environmental Protection Agency (EPA) has submitted an information collection request (ICR), NESHAP for Engine Test Cells/Stands (EPA ICR No. 2066.07, OMB Control No. 2060-0483), to the Office of Management and Budget (OMB) for review and approval in accordance with the Paperwork Reduction Act. This is a proposed extension of the ICR, which is currently approved through November 30, 2018. Public comments were previously requested, via the Federal Register on June 29, 2017, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 13, 2018.

ADDRESSES: Submit your comments, referencing Docket ID Number EPA-HQ-OECA-2014-0091, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person, at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Engine Test Cells/Stands (40 CFR part 63, subpart PPPPP) apply to either new or reconstructed engine test cells/stands located at major source facilities that are being used for testing internal combustion engines. An engine test cell/stand is any apparatus used for testing uninstalled stationary or uninstalled mobile (motive) engines. A plant site that is a major source of hazardous air pollutant (HAP) emissions emits or has the potential to emit any single HAP at a rate of 10 tons (9.07 megagrams) or more per year or any combination of HAPs at a rate of 25 tons (22.68 megagrams) or more per year. New facilities include those that commenced construction or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 63, subpart PPPPP.

Form Numbers: None.

Respondents/affected entities: Owners or operators of engine test cells/stands located at major source facilities that are being used for testing internal combustion engines.

Respondent's obligation to respond: Mandatory (40 CFR part 63, subpart PPPPP).

Estimated number of respondents: 19 (total).

Frequency of response: Initially, occasionally, and semiannually.

Total estimated burden: 2,150 hours (per year). Burden is defined at 5 CFR 1320.3(b).

Total estimated cost: $204,000 (per year), which includes $6,200 in annualized capital/startup and/or operation & maintenance costs.

Changes in the Estimates: There is an increase in the total estimated burden, number of responses, and Capital and O&M costs from the most-recently approved ICR due to several adjustments. First, based on consultations with internal Agency experts, there is an increase in the estimated number of new sources. This renewal reflects burden for an increase in the total number of sources and incorporates burden for one-time requirements for the new source. Second, this renewal includes time for each affected facility to review rule requirements each year.

Courtney Kerwin,
Director, Regulatory Support Division.

[FR Doc. 2018-24653 Filed 11-9-18; 8:45 am]

BILLING CODE 6560-50-P